DEPARTMENT OF JUSTICE

[OMB Number 1121-NEW]

Agency Information Collection Activities; Proposed eCollection eComments Requested; Survey of Juveniles Charged in Adult Criminal Court, 2014

AGENCY: Bureau of Justice Statistics, Department of Justice.

ACTION: 30-Day notice.

SUMMARY: The Department of Justice (DOJ), Office of Justice Programs, has submitted the following information collection to the Office of Management and Budget (OMB) for review and approval in accordance with the Paperwork Reduction Act of 1995. The proposed information collection was previously published in the Federal Register Volume 79, Number 14, page 3628, on January 22, 2014, allowing a 60-day comment period. The reference data for this collection has changed from 2013 to 2014.

DATES: Comments are encouraged and will be accepted for 30 days until September 4, 2014.

FOR FURTHER INFORMATION CONTACT: Written comments and/or suggestions regarding the items contained in this notice, especially the estimated public burden or associated response time, should be directed to OIRA_submission@omb.eop.gov.

SUPPLEMENTARY INFORMATION: Written comments and suggestions from the public and affected agencies concerning the proposed collection of information are encouraged. Your comments should address one or more of the following four points:

—Evaluate whether the collection of information is necessary for the proper performance of the functions of the agency, including whether the information will have practical utility;

—Evaluate the accuracy of the agency's estimate of the burden of the collection of information, including the validity of the methodology and assumptions used;

—Enhance the quality, utility and clarity of the information to be collected; and

—Minimize the burden of the collection of information on those who are to respond, including through the use of appropriate automated, electronic, mechanical, or other technological collection techniques or other forms of information technology, e.g. permitting electronic submission of responses.

Overview of this information collection:

(1) Type of information collection: New data collection, Survey of Juveniles Charged in Adult Criminal Court (SJCACC) 2014.

(2) The title of the form/collection: Survey of Juveniles Charged in Adult Criminal Court or SJCACC, 2014.

(3) The agency form number, if any, and the applicable component of the Department sponsoring the collection: The form labels are SJCACC—2014, Bureau of Justice Statistics, Office of Justice Programs, U.S. Department of Justice.

(4) Affected public who will be asked or required to respond, as well as a brief abstract: State Courts. Abstract: The SJCACC (SJCACC) project will collect accurate and reliable case processing statistics for youth under 18 charged as adults in a nationally representative sample. It will obtain data on demographics of the juvenile, charge information, and method of arrival in adult court (jurisdictional age laws vs. through a transfer mechanism). Adjudication outcomes such as dismissal, guilty plea, and outcome at trial will also be collected, as will sentencing data for those convicted. Fingerprint IDs will be obtained to allow for future recidivism studies and linking with criminal history data. When available, state-wide data will be collected, allowing for some state-by-state comparisons. Juveniles who were transferred to adult court will be oversampled, thus allowing for analyses of the use of different transfer methods. Please see Cost to Federal Government for the financial responsibility associated with the issuance of this report.

(5) An estimate of the total number of respondents and the amount of time estimated for an average respondent to respond: It is estimated that information will be collected on a total of 12,000 felony and misdemeanor defendants from a nationally representative sample that includes states and counties. The estimated burden hours will be contingent upon the state and counties electronic storage and transfer capabilities, with data collection occurring in a more timely and expeditious manner among respondents with the capacities to electronically transfer all their case processing information to the data collection agent. It is estimated 13 states will provide unformatted electronic data files and it should take an average of 62 hours per state. For those 12 states that provide a non-uniform extract, it should take an average of 43 hours, and those 3 states providing a uniform extract will spend on average 82 hours. For the remainder of the nation in which electronic data is not readily available, a sample will be drawn. Eighteen PSUs will be chosen, with approximately 10 responding counties in each PSU. It is estimated that 12 PSUs will have 18 counties with electronic data systems, with an average burden of 14 hours. It is estimated that six PSUs will have nine counties requiring sampling for paper or electronic surveys. An estimated 40 surveys will be required for each of these counties, with an average burden of two hours per survey. It is estimated that 22 states will provide summary statistics of their data, which will be used for weighting and validity checks.

(6) An estimate of the total public burden (in hours) associated with the collection: The estimated public burden associated for the SJCACC data collection is a total of 2,571 hours for all of the responding states and counties.

If additional information is required contact: Jerri Murray, Department Clearance Officer, United States Department of Justice, Justice Management Division, Policy and Planning Staff, Two Constitution Avenue, 145 N Street NE., Room 3E.405B, Washington, DC 20530.

Dated: July 30, 2014.
Jerri Murray,
Department Clearance Officer for PRA, U.S. Department of Justice.

[FR Doc. 2014-18410 Filed 8-4-14; 8:45 am]

BILLING CODE 4410-18-P